DEPARTMENT OF AGRICULTURE

Cooperative State Research, Education, and Extension Service

7 CFR Chapter XXXIV

Solicitation of Input From Stakeholders Regarding Programs for the Hispanic-Serving Agricultural Colleges and Universities

AGENCY: Cooperative State Research, Education, and Extension Service, USDA.

ACTION: Notice of public meeting and request for stakeholder input.

SUMMARY: The Cooperative State Research, Education, and Extension Service (CSREES) is requesting stakeholder input in developing regulations for identifying and certifying institutions as Hispanic-serving Agricultural Colleges and Universities (HSACUs), which comprise a new group of cooperating educational institutions established in section 7101 of the Food, Conservation, and Energy Act of 2008 (FCEA) or Public Law 110-246. In addition, CSREES is requesting stakeholder input in developing regulations for the five new programs for HSACUs authorized under section 7129 of FCEA. By this notice, CSREES is designated to act on behalf of the Secretary of Agriculture in soliciting public comment from interested parties regarding the implementing regulations to be developed for identifying HSACUs and the new programs for HSACUs.

DATES: The meeting will be held on Sunday, October 12, 2008, from 3 p.m. to 6:30 p.m. All comments not presented or submitted for the record at the meeting must be received by close of business Monday, October 27, 2008, to be considered.

ADDRESSES: The meeting will be held at the Hyatt Regency Denver at Colorado Convention Center at 650 15th Street Denver, CO 80202. You may submit comments, identified by CSREES-2008-0004, by any of the following methods:

Federal eRulemaking Portal: http://www.regulations.gov. Follow the instructions for submitting comments.

E-mail: HSACU@csrees.usda.gov. Include CSREES-2008-0004 in the subject line of the message.

Fax: (202) 720-2030.

Mail: Paper, disk or CD-ROM submissions should be submitted to: John Miklozek; Multicultural Alliances, Science and Education Resources Development Unit; Cooperative State Research, Education, and Extension Service; U.S. Department of Agriculture; Mail Stop 2251; 1400 Independence Avenue, SW., Washington, DC 20250-2251.

Hand Delivery/Courier: HSACU; Multicultural Alliances, Science and Education Resources Development Unit; Cooperative State Research, Education, and Extension Service; U.S. Department of Agriculture; Room 3253; Waterfront Centre; 800 9th Street, SW.; Washington, DC 20024.

Instructions: All submissions received must include the agency name and CSREES-2008-0004. All comments received will be posted to http://www.regulations.gov, including any personal information provided.

FOR FURTHER INFORMATION CONTACT: Mr. John Miklozek, (202) 720-1254 (phone), (202) 720-2030 (fax), or HSACU@csrees.usda.gov.

SUPPLEMENTARY INFORMATION:

Additional Meeting and Comment Procedures

Persons wishing to present oral comments at the October 12, 2008, meeting are requested to pre-register by contacting Mr. John Miklozek at (202) 720-1254, by fax at (202) 720-2030 or by e-mail to HSACU@csrees.usda.gov. Participants may reserve one 5-minute comment period. More time may be available, depending on the number of people wishing to make a presentation and the time needed for questions following presentations. Reservations will be confirmed on a first-come, first-served basis. Written comments may also be submitted for the record at the meeting. All other attendees may register at the meeting. All comments not presented or submitted for the record at the meeting must be received by close of business Monday, October 27, 2008, to be considered. All comments and the official transcript of the meeting, when they become available, may be reviewed on the CSREES Web page for six months. Participants who require a sign language interpreter or other special accommodations should contact Mr. Miklozek as directed above. A Spanish language interpreter will be present.

Background and Purpose

Section 7101 of the FCEA recently established a new group of cooperating educational institutions known as the Hispanic-serving Agricultural Colleges and Universities (HSACUs). Section 1404 of the National Agricultural Research, Extension, and Teaching Policy Act of 1977 (“NARETPA”) (7 U.S.C. 3103) defines HSACUs as colleges or universities that qualify as Hispanic-serving institutions (as defined in section 502 of the Higher Education Act of 1965 (20 U.S.C. 1101a) and that offer associate, bachelors, or other accredited degree programs in agriculture-related fields. HSACUs do not include 1862 institutions (as defined in section 2 of the Agricultural Research, Extension, and Education Reform Act of 1998 (7 U.S.C. 7601).

The FCEA amends section 406(b) of the Agricultural Research, Extension, and Education Reform Act of 1998 (7 U.S.C. 7626(b)) by expanding the eligibility for the CSREES Integrated Research, Education, and Extension Competitive Grants Programs to include HSACUs.

In addition, section 7129 of the FCEA authorizes the following five new programs for HSACUs: The HSACU Endowment Fund, the HSACU Equity Grants Program, the HSACU Institutional Capacity-Building Grants Program, the HSACU Fundamental and Applied Research Grants Program, and the HSACU Extension Grants Program. The first four programs are authorized in section 1456 of NARETPA (7 U.S.C. 3243), and the fifth program is authorized in section 3(b)(4) of the Smith-Lever Act (7 U.S.C. 343(b)(4)).

CSREES is requesting stakeholder input in the identification and certification of institutions as HSACUs and on the implementation of the five new HSACU programs.

Implementation Plans

CSREES plans to consider stakeholder input received from this public meeting, as well as other written comments, in developing an implementing regulation for the identification and certification of institutions as HSACUs by Spring 2009; with a separate implementing regulation for the new HSACU programs to follow.

Done at Washington, DC, this 19th day of September, 2008.
Colien Hefferan,
Administrator, Cooperative State Research, Education, and Extension Service.

[FR Doc. E8-22418 Filed 9-23-08; 8:45 am]

BILLING CODE 3410-22-P